DEPARTMENT OF VETERANS AFFAIRS

[OMB Control No. 2900-NEW]

Proposed Information Collection Activity: (PACT: Veteran's Health and Well-Being)

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including this new collection, and allow 60 days for public comment in response to the notice. This notice solicits comments on information needed to identify areas for improvement in clinical training programs.

DATES: Written comments and recommendations on the proposed collection of information should be received on or before March 27, 2017.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

1. PACT: Veteran's Health and Well-Being.

2. OMB Control Number: 2900-NEW.

Type of Review: New collection.

Abstracts: The purpose of the study, which is funded by the PACT Demonstration Lab Coordinating Center, is to conduct a survey of Veterans to capture novel predictors of hospital admission and identify clusters of complex patients based on survey- and claims-based covariates. This study provides the first empirical application of the Cycle of Complexity conceptual model that the study team developed and recently published, which postulates that patient complexity represents more than having multiple chronic conditions. It is critical to evaluate whether complexity defined on the basis of survey-based and claims-based covariates is more predictive than diagnosis of multiple chronic conditions based on claims data alone.

The proposed patient survey is designed to measure a broad range of self-reported patient factors that increase Veterans' risk for being admitted to hospital, including life stressors, perceived locus of control, grit, resilience, functional status, social support and loneliness, sleep problems, symptoms, food insecurity, and patient activation. This survey will help us understand, for the first time, the extent to which self-reported factors can markedly improve prediction of patient risk for hospital admission, which may help the PACT Demonstration Lab Coordinating Center Intelligence improve its risk prediction models. This project may also identify patient-reported outcomes (PROs) that can be effectively integrated into routine VA clinical practice, as the VA begins to explore inclusion of PROs into the VA electronic health record. We are requesting approval to conduct this survey to a nationally representative sample of 10,000 patients who obtain primary care in VA because there are no extant VA surveys that capture the range of patient factors that we propose to collect, which are not available in VA administrative databases. If we did not capture these patient factors, our risk prediction analysis might be incorrect or biased.

Affected Public: Individuals or households.

Estimated Annual Burden:

PACT: Veteran's Health and Well-Being Survey—2500.

Estimated Average Burden per Respondent:

PACT: Veteran's Health and Well-Being Survey—30 minutes.

Frequency of Response: Annually.

Estimated Annual Responses:

PACT: Veteran's Health and Well-Being Survey—5,000.

By direction of the Secretary:
Cynthia Harvey-Pryor,
Program Specialist, Office of Privacy and Records Management, Department of Veterans Affairs.

[FR Doc. 2017-01752 Filed 1-25-17; 8:45 am]

BILLING CODE 8320-01-P